ENVIRONMENTAL PROTECTION AGENCY

[OAR-2004-0237; FRL-7936-5]

Animal Feeding Operations Consent Agreement and Final Order

AGENCY: Environmental Protection Agency (EPA).

ACTION: Supplemental notice; reopening of signup period for consent agreement and final order.

SUMMARY: On January 31, 2005 (70 FR 4958), EPA announced an opportunity for animal feeding operations (AFO) to sign a voluntary consent agreement and final order (air compliance agreement). This supplemental notice announces an extension to the signup period for the consent agreement and final order.

DATES: The signup period is extended to July 29, 2005.

ADDRESSES: EPA has established a docket for this action under Docket ID No. OAR-2004-0237. All documents in the docket are listed in the index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at: Air and Radiation Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: For information on the air compliance agreement, contact Mr. Bruce Fergusson, Special Litigation and Projects Division, Office of Enforcement and Compliance Assurance, U.S. EPA, Ariel Rios Building, Washington, DC 20460, telephone number (202) 564-1261, fax number (202) 564-0010, and electronic mail: fergusson.bruce@epa.gov.

For information on the monitoring study, contact Ms. Sharon Nizich, Organic Chemicals Group, Emission Standards Division, Office of Air Quality Planning and Standards, U.S. EPA, Research Triangle Park, NC 27711, telephone number (919) 541-2825, fax number (919) 541-3470, and electronic mail: nizich.sharon@epa.gov.

SUPPLEMENTARY INFORMATION: In order to provide more time for operators of animal feeding facilities to make informed decisions about participation, EPA is extending the sign-up period for the Animal Feeding Operation Air Compliance Agreement until July 29, 2005. The Agreement addresses emissions from certain animal feeding operations, also known as AFO. EPA will continue to reach out to the agricultural community during this time.

The response to comments document is published in a separate Federal Register notice and can also be found on the Agency's Web site at http://www.epa.gov/compliance/resources/agreements/caa/cafo-agr-response-com.html.

Dated: June 30, 2005.
Sally Shaver,
Director, Emission Standards Division, Office of Air Quality Planning and Standards.
Dated: July 5, 2005.
Robert A. Kaplan,
Director, Special Litigation and Projects Division, Office of Civil Enforcement and Compliance Assurance.

[FR Doc. 05-13671 Filed 7-11-05; 8:45 am]

BILLING CODE 6560-50-P